FEDERAL COMMUNICATIONS COMMISSION

47 CFR Part 79

[CG Docket No. 05-231; DA 05-2974]

Closed Captioning of Video Programming, Telecommunications for the Deaf, Inc.; Petition for Rulemaking

AGENCY: Federal Communications Commission.

ACTION: Proposed rule; extension of reply comment period.

SUMMARY: In this document, the Consumer & Governmental Affairs Bureau grants a request for an extension of time to file reply comments in response to the Notice of Proposed Rulemaking (NPRM) adopted by the Commission in the “Closed Captioning of Video Programming” proceeding. The extension is granted to provide parties the necessary time to coordinate and file reply comments that will result in a more complete record.

DATES: Reply comments are due on or before December 16, 2005.

ADDRESSES: Interested parties may submit reply comments, identified by CG Docket No. 05-231, by any of the following methods:

• Federal eRulemaking Portal: http://www.regulations.gov. Follow the instructions for submitting comments.

• Federal Communications Commission's Web Site: http://www.fcc.gov/cgb/ecfs/. follow the instructions for submitting comments.

• People with Disabilities: Contact the FCC to request reasonable accommodations (accessible format documents, sign language interpreters, CART, etc.) by e-mail: FCC504@fcc.gov or phone (202) 418-0539 or TTY: (202) 418-0432.

For detailed instructions for submitting comments and additional information on the rulemaking process, see the SUPPLEMENTARY INFORMATION section of this document.

FOR FURTHER INFORMATION CONTACT: Amelia Brown, Consumer & Governmental Affairs Bureau, Disability Rights Office, at (202) 418-2799 (voice), (202) 418-7804 (TTY), or e-mail at Amelia.Brown@fcc.gov.

SUPPLEMENTARY INFORMATION: This is a summary of the Order, DA 05-2974, in CG Docket No. 05-231, adopted November 16, 2005, released November 17, 2005, which extends the reply comment filing deadline in the “Closed Captioning of Video Programming” proceeding. Pursuant to §§ 1.415 and 1.419 of the Commission rules, 47 CFR 1.415 and 1.419, interested parties may file reply comments on or before the dates indicated on the first page of this document. Reply comments may be filed using: (1) The Commission's Electronic Comment Filing System (ECFS), (2) the Federal Government's eRulemaking Portal, or (3) by filing paper copies. See Electronic Filing of Documents in Rulemaking Proceedings, 63 FR 24121, May 1, 1998.

• Electronic Filers: Reply comments may be filed electronically using the Internet by accessing the ECFS: http://www.fcc.gov/cgb/ecfs/ or the Federal Rulemaking Portal: http://www.regulations.gov. Filers should follow the instructions provided on the Web site for submitting comments.

• For ECFS filers, if multiple docket or rulemaking numbers appear in the caption of this proceeding, filers must transmit one electronic copy of the comments for each docket or rulemaking number referenced in the caption. In completing the transmittal screen, filers should include their full name, U.S. Postal Service mailing address, and the applicable docket or rulemaking number. Parties may also submit an electronic comment by Internet e-mail. To get filing instructions, filers should send an e-mail to ecfs@fcc.gov, and include the following words in the body of the message, “get form.” A sample form and directions will be sent in response. All comments received are viewable by the general public at any time through the Web site.

• Paper Filers: Parties who choose to file by paper must file an original and four copies of each filing. If more than one docket or rulemaking number appears in the caption of this proceeding, filers must submit two additional copies for each additional docket or rulemaking number. Filings can be sent by hand or messenger delivery, by commercial overnight courier, or by first-class or overnight U.S. Postal Service mail (although the Commission continues to experience delays in receiving U.S. Postal Service mail). All filings must be addressed to the Commission's Secretary, Office of the Secretary, Federal Communications Commission.

• The Commission's contractor will receive hand-delivered or messenger-delivered paper filings for the Commission's Secretary at 236 Massachusetts Avenue, NE., Suite 110, Washington, DC 20002. The filing hours at this location are 8 a.m. to 7 p.m. All hand deliveries must be held together with rubber bands or fasteners. Any envelopes must be disposed of before entering the building.

• Commercial overnight mail (other than U.S. Postal Service Express Mail and Priority Mail) must be sent to 9300 East Hampton Drive, Capitol Heights, MD 20743.

• U.S. Postal Service first-class, Express, and Priority mail should be addressed to 445 12th Street, SW., Washington, DC 20554.

Pursuant to § 1.1206 of the Commission's rules, 47 CFR 1.1206, this proceeding will be conducted as a permit-but-disclose proceeding in which ex parte communications are subject to disclosure.

The full text of document DA 05-2974 and copies of any subsequently filed documents relating to this matter will be available for public inspection and copying during regular business hours at the FCC Reference Information Center, Portals II, 445 12th Street, SW., Room CY-A257, Washington, DC 20554. This document and copies of subsequently filed documents in this matter may also be purchased from the Commission's contractor at Portals II, 445 12th Street, SW., Room CY-B402, Washington, DC 20554. Customers may contact the Commission's contractor at their Web site www.bcpiweb.com or by calling 1-800-378-3160. A copy of the National Association of Broadcasters (NAB) Request for Extension of Time may also be found by searching ECFS at http://www.fcc.gov/cgb/ecfs (insert CG Docket No. 05-231 into the proceeding block).

To request materials in accessible formats for people with disabilities (Braille, large print, electronic files, audio format), send an e-mail to fcc504@fcc.gov or call the Consumer & Governmental Affairs Bureau at (202) 418-0530 (voice) or (202) 418-0432 (TTY). Document DA 05-2974 can also be downloaded in Word and Portable Document Format (PDF) at http://www.fcc.gov/cgb.dro.

Synopsis

On July 21, 2005, the Commission released an NPRM in CG Docket No. 05-231; FCC 05-142, which was published in the Federal Register on September 26, 2005 (70 FR 56150) which set the deadline for filing reply comments as November 25, 2005. On November 15, 2005, the Commission received a Request for Extension of Time for this proceeding from the National Association of Broadcasters (NAB). NAB requests that the Commission extend the reply comments deadline until December 16, 2005 because of the significant amount of time required to review, analyze and respond to the hundreds of comments filed in this proceeding. NAB notes that the current reply comment deadline is the day after the Thanksgiving holiday. Additionally, NAB asserts that the proposed extension will enable the Commission to gather and consider a more complete factual record of the relevant legal issues, which is in the public interest.

Though the Commission does not routinely grant extensions of time, an extension in this proceeding will afford parties the necessary time to file reply comments that will result in a more complete record in this proceeding. The extension will not cause undue delay to the Commission's consideration of the issues.

Ordering Clauses

The Request for Extension of Time filed by the National Association of Broadcasters on November 15, 2005, is granted. Interested parties may file reply comments on or before December 16, 2005.

This action is taken pursuant to the authority provided in § 1.46 of the Commission's rules, 47 CFR 1.46, and under delegated authority pursuant to §§ 0.141 and 0.361 of the Commission's rules, 47 CFR 0.141 and 0.361.

Federal Communications Commission.
Monica Desai,
Chief, Consumer & Governmental Affairs Bureau.

[FR Doc. E5-6585 Filed 11-23-05; 8:45 am]

BILLING CODE 6712-01-P